DEPARTMENT OF LABOR

Employment and Training Administration

Agency Information Collection Activities; Comment Request; IRAP Program and Performance Reports for Standards Recognition Entities

ACTION: Notice.

SUMMARY: The Department of Labor's (DOL or Department) Employment and Training Administration (ETA) is soliciting comments concerning a proposed authority to conduct the information collection request (ICR) titled, “IRAP Program and Performance Reports for Standards Recognition Entities.” This comment request is part of continuing Departmental efforts to reduce paperwork and respondent burden in accordance with the Paperwork Reduction Act of 1995 (PRA).

DATES: Consideration will be given to all written comments received by July 27, 2020.

ADDRESSES: Comments submitted in response to this notice should be submitted electronically through the Federal eRulemaking Portal at http://www.regulations.gov by selecting Docket ID number ETA-2020-0003. A copy of this ICR with applicable supporting documentation, including a description of the likely respondents, proposed frequency of response, and estimated total burden, may be obtained free of charge from http://www.regulations.gov. Individuals with hearing or speech impairments may access the telephone number above via TTY by calling the toll-free Federal Information Relay Service at 1-877-889-5627 (TTY/TDD).

Comments submitted in response to this comment request will become a matter of public record and will be summarized and included in the request for Office of Management and Budget (OMB) approval of the final ICR. In addition, comments regardless of the delivery method will be posted without change on the http://www.regulations.gov website; consequently, the Department recommends commenters not include personal information such as a Social Security Number, personal address, telephone number, email address, or confidential business information that they do not want made public. It is the responsibility of the commenter to determine what to include in the public record.

FOR FURTHER INFORMATION CONTACT: Contact Stephen Sage by telephone at (202)693-3221 (this is not a toll-free number) or by email at sage.stephen@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

This information collection is authorized under the National Apprenticeship Act (29 U.S.C. 50). This data collection includes two reports for Standards Recognition Entities (SREs): (1) A program report which is required within 30 days of recognizing a new program or changing the status of a current program; and (2) a performance report which is required on an annual basis for each Industry-Recognized Apprenticeship Program (IRAP) they recognize. The information collected in these reports is aligned with the amendments to 29 CFR part 29, as set forth in subpart B. Pursuant to § 29.22(h), SREs are required to report data that will reflect the outcomes of the IRAPs it has recognized. Section 29.22(h) also requires SREs to make publicly available certain data about IRAPs and performance outcomes, which it must submit to the Department.

The Department's Office of Apprenticeship (OA) will use this information for quality assurance, data collection, and performance assessment of SREs to evaluate whether an SRE complies with the Departmental regulations and standards. Specifically, OA will use the information gathered to gauge the qualifications, plans, and processes of an SRE seeking re-recognition to determine whether it meets the standards described in subpart B. Among the required data are the industry-recognized credentials attained by apprentices for each IRAP. These program and performance reporting requirements help to demonstrate that the Department is promoting high-quality standards of apprenticeship, consistent with the directions in the National Apprenticeship Act, by requiring accountability from SREs. By enhancing oversight and accountability of SREs, these measures help the Department ensure that SREs are recognizing apprenticeship programs that adhere to the standards of high-quality apprenticeship required by the rule. The Department views these program and performance reports as ensuring SRE's compliance with § 29.22(a)(4), as required by § 29.21(b)(2) and accountability to the quality-control relationship. Additionally, § 29.22(j) requires an SRE to make publicly available the aggregated number of complaints pertaining to each IRAP in a format and with the frequency prescribed by the Administrator. Further, § 29.24 requires the publication of SREs and IRAPs and that the Administrator will make publicly available a list of recognized, suspended, and derecognized SREs and IRAPs. The Department views these program and performance reports as ensuring overall compliance with these rules.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6. Interested parties are encouraged to provide comments to the contact shown in the ADDRESSES section. Comments must be written to receive consideration, and they will be summarized and included in the request for OMB approval of the final ICR. In order to help ensure appropriate consideration, comments should mention 1205-0NEW.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: New.

Title of Collection: IRAP Program and Performance Reports for Standards Recognition Entities.

Reports:

• IRAP Program Report for Standards Recognition Entities

• Annual Performance Report for Standards Recognition Entities

OMB Control Number: 1205-0NEW.

Affected Public: State and Local Governments; Private Sector—businesses or other for-profits and not-for-profit institutions.

Estimated Number of Respondents: 3,794.

Frequency: Annually and 30 days upon recognizing, derecognizing or suspending an IRAP Sponsor.

Total Estimated Annual Responses: 12,447.

Estimated Average Time per Response: The Department estimates that it will take an SRE 6 hours and 3.75 minutes to provide the Administrator with information on its IRAP Sponsors. The Department estimates that it will take an IRAP 25 hours to provide performance information to its SRE, so the total burden is estimated at 89,525 hours (= 3,581 IRAPs × 25 hours).

Estimated Total Annual Burden Hours: 111,118 hours.

Total Estimated Annual Other Cost Burden: $0.

John Pallasch,
Assistant Secretary for Employment and Training.

[FR Doc. 2020-11188 Filed 5-22-20; 8:45 am]

BILLING CODE 4510-FR-P